DEPARTMENT OF JUSTICE

Office on Violence Against Women

Notice of Meeting

AGENCY: Office on Violence Against Women, United States Department of Justice.

ACTION: Notice of meeting.

SUMMARY: This notice sets forth the schedule and proposed agenda of the forthcoming public meeting of the Section 904 Violence Against Women in Indian Country Task Force (hereinafter “the Task Force”).

DATES: The meeting will take place on December 8, 2008 from 8:30 a.m. to 5 p.m. and on December 9, 2008 from 8:30 a.m. to 5 p.m.

ADDRESSES: The meeting will take place at Agua Caliente Spa Resort Hotel, 100 North Indian Canyon Drive, Palm Springs, California 92262. The public is asked to preregister by December 1, 2008 for the meeting (see below for information on pre-registration).

FOR FURTHER INFORMATION CONTACT: Lorraine Edmo, Deputy Tribal Director, Office on Violence Against Women, United States Department of Justice, 800 K Street, NW., Suite 920, Washington, DC 20530; by telephone at: (202) 514-8804; e-mail: Lorraine.edmo@usdoj.gov; or fax: (202) 307-3911. You may also view information about the Task Force on the Office on Violence Against Women Web site at: http://www.ovw.usdoj.gov/siw.htm.

SUPPLEMENTARY INFORMATION: Notice of this meeting is required under section 10(a)(2) of the Federal Advisory Committee Act. Title IX of the Violence Against Women Act of 2005 (VAWA 2005) requires the Attorney General to establish a Task Force to assist the National Institute of Justice (NIJ) to develop and implement a program of research on violence against American Indian and Alaska Native women, including domestic violence, dating violence, sexual assault, stalking, and murder. The program will evaluate the effectiveness of the Federal, State, and tribal response to violence against Indian women, and will propose recommendations to improve the government response. The Attorney General, acting through the Director of the Office on Violence Against Women, established the Task Force on March 31, 2008.

This meeting will be the second meeting of the Task Force and will include a presentation of the Title IX, Section 904 Research Plan Proposal and facilitated Task Force discussion of the proposal. In addition, the Task Force is also welcoming public oral comment at this meeting and has reserved an estimated 45 minutes for this purpose. Members of the public wishing to address the Task Force must contact Lorraine Edmo, Deputy Tribal Director, Office on Violence Against Women, United States Department of Justice, 800 K Street, NW., Suite 920, Washington, DC 20530; by telephone at: (202) 514-8804; e-mail: Lorraine.edmo@usdoj.gov; or fax: (202) 307-3911.

The meeting will take place on December 8, 2008 from 8:30 a.m. to 5 p.m. and on December 9, 2008 from 8:30 a.m. to 5 p.m. and will include breaks and a working lunch on December 8, 2008. Time will be reserved for public comment on December 9, 2008 from 4 p.m. to 4:45 p.m. See the section below for information on reserving time for public comment.

Access: This meeting will be open to the pubic but registration on a space available basis is required. Persons who wish to attend must register at least six (6) days in advance of the meeting by contacting Lorraine Edmo, Deputy Tribal Director, Office on Violence Against Women, United States Department of Justice, by e-mail: Lorraine.edmo@usdoj.gov; or fax: 202 307-3911. All attendees will be required to sign in at the meeting registration desk.

The meeting site is accessible to individuals with disabilities. Individuals who require special accommodation in order to attend the meeting should notify Lorraine Edmo, Deputy Tribal Director, Office on Violence Against Women, United States Department of Justice, by e-mail: Lorraine.edmo@usdoj.gov; or fax: 202 307-3911 no later than December 1, 2008. After this date, we will attempt to satisfy accommodation requests but cannot guarantee the availability of any requests.

Written Comments: Interested parties are invited to submit written comments by December 1, 2008 to Lorraine Edmo, Deputy Tribal Director, Office on Violence Against Women, United States Department of Justice, 800 K Street, NW., Suite 920, Washington, DC 20530 by mail; or by e-mail: Lorraine.edmo@usdoj.gov; or by fax: 202 307-3911.

Public Comment: Persons interested in participating during the public comment period of the meeting, which will address the Title IX, Section 904 Research Plan Proposal, are requested to reserve time on the agenda by contacting Lorraine Edmo, Deputy Tribal Director, Office on Violence Against Women, United States Department of Justice, by e-mail: Lorraine.edmo@usdoj.gov; or fax: 202 307-3911.

Requests must include the participant's name, organization represented, if appropriate, and a brief description of the subject of the comments. Each participant will be permitted approximately 3 to 5 minutes to present comments, depending on the number of individuals reserving time on the agenda. Participants are also encouraged to submit written copies of their comments at the meeting. Comments that are submitted to Lorraine Edmo, Deputy Tribal Director, Office on Violence Against Women, United States Department of Justice, 800 K Street, NW., Suite 920, Washington, DC 20530 by mail; by e-mail: Lorraine.edmo@usdoj.gov; or fax: 202 307-3911 before December 1, 2008 will be circulated to Task Force members prior to the meeting.

Given the expected number of individuals interested in presenting comments at the meeting, reservations should be made as soon as possible. Persons unable to obtain reservations to speak during the meeting are encouraged to submit written comments, which will be accepted at the meeting location or may be mailed to the Section 904 Violence Against Women in Indian Country Task Force, to the attention of Lorraine Edmo, Deputy Tribal Director, Office on Violence Against Women, United States Department of Justice, 800 K Street, NW., Suite 920, Washington, DC, 20530.

Cindy Dyer,
Director, Office on Violence Against Women.

[FR Doc. E8-27355 Filed 11-17-08; 8:45 am]

BILLING CODE 4410-FX-P